DEPARTMENT OF HOMELAND SECURITY

Coast Guard

33 CFR Part 100

[Docket No. USCG-2019-0673]

Special Local Regulations; Annual Les Cheneaux Islands Antique Wooden Boat Show; Hessel, MI.

AGENCY: Coast Guard, DHS.

ACTION: Notice of enforcement of regulation.

SUMMARY: The Coast Guard will enforce a special local regulation for the Annual Les Cheneaux Islands Antique Wooden Boat Show on August 10, 2019, from 7 a.m. to 6:30 p.m. to provide for the safety of life on navigable waterways during this event. During the enforcement period, all vessels will operate at a no wake speed and follow the directions of the on-scene Patrol Commander.

DATES: The regulations in 33 CFR 100.922 will be enforced on August 10, 2019, from 7 a.m. to 6:30 p.m.

FOR FURTHER INFORMATION CONTACT: If you have questions about this notice of enforcement, call or email LT Sean Murphy, Coast Guard Sector Sault Sainte Marie Waterways Management, U.S. Coast Guard; telephone 906-635-3223, email Sean.V.Murphy@uscg.mil.

SUPPLEMENTARY INFORMATION: The Coast Guard will enforce the special local regulation in 33 CFR 100.922 for the Annual Les Cheneaux Islands Antique Wooden Boat Show on August 10, 2019 from 7 a.m. to 6:30 p.m. This action is being taken to provide for the safety of life on navigable waterways during this event. The special local regulation, 33 CFR 100.922, specifies the location of the regulated area for the Annual Les Cheneaux Islands Antique Wooden Boat Show which encompasses a portion of the waterway near Hessel, MI. During the enforcement period, as reflected in § 100.922(c), all vessels within the regulated area will operate at a no wake speed and follow the directions of the on-scene Patrol Commander.

In addition to this notice of enforcement in the Federal Register, the Coast Guard plans to provide notification of this enforcement period via the Local Notice to Mariners, and marine information broadcasts.

Dated: August 5, 2019.
P.S. Nelson,
Captain, U.S. Coast Guard, Captain of the Port Sault Sainte Marie.

[FR Doc. 2019-17055 Filed 8-8-19; 8:45 am]

BILLING CODE 9110-04-P